DEPARTMENT OF THE TREASURY

Submission for OMB Review; Comment Request

December 15, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 2, 2004 to be assured of consideration.

Departmental Offices/Community Development Financial Institutions (CDFI) Fund

OMB Number: New.

Form Number: CDFI 0010.

Type of Review: New collection.

Title: New Markets Tax Credit (NMTC) Program Allocation Tracking System (ATS).

Description: The purpose of the NMTC Program ATS is to obtain information on investors making qualified investments in community development entities that receive New Markets Tax Credit allocation.

Respondents: Business or other for-profit, Not-for-profit institution.

Estimated Number of Respondents/Recordkeepers: 66.

Estimated Burden Hours per Respondent/Recordkeeper: 12 hours.

Frequency of Response: On occasion.

Estimated Total Reporting/Recordkeeping Burden: 792 hours.

OMB Number: New.

Form Number: CDFI 0011.

Type of Review: New collection.

Title: NMTC Program Allocation Agreement—Disclosure, Audited Financial Statements.

Description: Entities receiving New Markets Tax Credit Program Allocation must enter into an allocation agreement with the CDFI Fund. The allocation agreement contains certain disclosure and reporting requirements.

Respondents: Business or other for-profit, Not-for-profit institutions.

Estimated Number of Respondents: 71.

Estimated Burden Hours per Respondent: 1 hour.

Frequency of Response: On occasion.

Estimated Total Reporting Burden: 76 hours.

OMB Number: 1559-0011.

Form Number: CDFI 0016.

Type of Review: Extension.

Title: Conflict of Interest Package for CDFI Fund Non-Federal Readers.

Description: The CDFI Fund seeks to collect information from potential contractors hired to evaluate Fund program applications to identify, evaluate, and avoid potential conflicts of interest which the contractors may have with such applications.

Respondents: Individuals or households.

Estimated Number of Respondents: 150.

Estimated Burden Hours per Respondent: 45 minutes.

Frequency of Response: On occasion.

Estimated Total Reporting Burden: 112 hours.

Clearance Officer: Lois K. Holland (202) 622-1563, Departmental Offices, Room 2110, 1425 New York Avenue, NW., Washington, DC 20220.

OMB Reviewer: Joseph F. Lackey, Jr., (202) 395-7316, Office of Management and Budget, Room 10235, New Executive Office Building, Washington, DC 20503.

Lois K. Holland,
Treasury PRA Clearance Officer.

[FR Doc. 03-32260 Filed 12-31-03; 8:45 am]

BILLING CODE 4811-16-P